DEPARTMENT OF TRANSPORTATION

National Highway Traffic Safety Administration

[U.S. DOT Docket Number NHTSA-2002-13632]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections. This document describes one collection of information for which NHTSA intends to seek OMB approval.

DATES: Comments must be received on or before December 27, 2002.

ADDRESSES: Comments may be submitted in writing to the U.S. Department of Transportation's Docket Management Section, Room PL-401, 400 Seventh Street, SW., Washington, DC 20590. It is requested, but not required, that 2 copies of the comment be provided. The Docket Section is open on weekdays from 10 a.m. to 5 p.m. Alternatively, comments may be submitted electronically by logging onto the docket management website at http://dms.dot.gov. Click on “Help” or “Electronic Submission” to obtain instructions for filing the document electronically. In the submittal, the commenter should refer to the docket number.

FOR FURTHER INFORMATION CONTACT: For further information, contact Mr. Joseph Scott, Office of Crash Avoidance Standards, 400 Seventh Street, SW., DC 20590. Mr. Scott's telephone number is (202) 366-8525. His FAX number is (202) 493-2739. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(1) Whether the proposed collection of information is necessary for the proper performance of the functions of the agency, including whether the information will have practical utility;

(2) The accuracy of the agency's estimate of the burden of the proposed collection of information, including the validity of the methodology and assumptions used;

(3) How to enhance the quality, utility, and clarity of the information to be collected;

(4) How to minimize the burden of the collection of information on those who are to respond, including the use of appropriate automated, electronic, mechanical, or other technological collection techniques or other forms of information technology, e.g. permitting electronic submission of responses.

In compliance with these requirements, NHTSA asks for public comments on the following proposed collections of information:

Title: Tire Identification and Record Keeping.

OMB Control Number: 2127-0050.

Affected Public: Tire Manufacturers, Dealers, and Distributors.

Form Number: The forms on which the information is to be recorded are provided by the tire manufacturers to both independent and non-independent dealers. In the case of independent dealers, the law specifies that they must record the tire identification number(s) of the tire(s) sold on a registration form, and hand that form to the tire purchaser. The purchaser is then free to complete the remaining information, place a stamp on the registration form, and return it to the tire manufacturer.

Abstract: Each tire manufacturer must collect and maintain records of the names and addresses of the first purchasers of new tires. All tire dealers and distributors must record the names and addresses of retail purchasers of new tires and the identification number(s) of the tires sold. A specific form is provided to tire dealers and distributors by tire manufacturers for recording this information. The completed forms are returned to the tire manufacturers where they are to remain for three years after the date received by the manufacturer. Additionally, motor vehicle manufacturers are required to record the names and addresses of the first purchasers of new motor vehicles, together with the identification numbers of the tires on the new vehicles.

Estimated Annual Burden: 747,500.

Estimated Number of Respondents: 37,400,000.

Issued on: October 23, 2002.
Stephen R. Kratzke,
Associate Administrator for Rulemaking.

[FR Doc. 02-27369 Filed 10-25-02; 8:45 am]

BILLING CODE 4910-59-P